DEPARTMENT OF TRANSPORTATION

Federal Aviation Administration

Aging Transport Systems Rulemaking Advisory Committee Meeting

AGENCY: Federal Aviation Administration (FAA), DOT.

ACTION: Notice of public meeting.

SUMMARY: This notice announces a public meeting of the FAA's Aging Transport Systems Rulemaking Advisory Committee (ATSRAC).

DATES: The ATSRAC will meet October 21, 2004, from 6 a.m. to 4 p.m. PDT.

ADDRESSES: The FAA will conduct the meeting by teleconference and by Webex. The instructions for both are indicated below under the heading “Meeting Instructions.”

FOR FURTHER INFORMATION CONTACT: Shirley Stroman, Office of Rulemaking, ARM-208, FAA, 800 Independence Avenue, SW., Washington, DC 20591; telephone (202) 267-7470; fax (202) 267-5075; or e-mail shirley.stroman@faa.gov.

SUPPLEMENTARY INFORMATION: This notice announces a meeting of the Aging Transport Systems Rulemaking Advisory Committee. The meeting topics are listed under the “Meeting Agenda” heading of this notice. The meeting is open to the public; however, participation will be limited to the number of persons the meeting arrangements can accommodate.

The public may present written statements to the Committee by providing 20 copies to the Committee's Executive Director. Public statements at the meeting will be considered if time allows. You may contact the individual under the FURTHER INFORMATION CONTACT heading of this notice for additional instructions if you want to file a written statement.

Meeting Agenda

The agenda topics will include—

• Review and approval of the July 7-8, 2004 ATSRAC meeting minutes.

• Discussion of ATSRAC members' comments to Harmonization Working Group-11's interim report.

Meeting Instructions

Teleconference: You may call either 425.717.7000 or 206.544.4444 to join the meeting. Follow the instructions at the prompts. The passcode to connect to the teleconference is 23611#. If you are prompted to contact the operator for assistance, enter confirmation number I 93303. If you call from outside the calling area, you will be responsible for paying long distance charges.

Webex: You must have access to the Internet to use Webex. It is important for you to set-up your Webex access at least one hour before the meeting start to avoid delays. To join the meeting using Webex, sign onto the Internet and enter the Web address given below. You will need to enter meeting number 821085521 and password boeingrocks. https://boeing.webex. com/boeing/site/ advancedframe.php?Rnd6253= 7212807624418305

If you have questions about the meeting instructions, you may contact the individual listed under the FOR FURTHER INFORMATION CONTACT heading of this notice.

Tony Fazio,
Director, Office of Rulemaking.

[FR Doc. 04-23058 Filed 10-8-04; 1:42 pm]

BILLING CODE 4910-13-P